DEPARTMENT OF COMMERCE

National Oceanic and Atmospheric Administration

RIN 0648-XA365

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene Public Hearings on: Amendment 18 to the Fishery Management Plan for Coastal Migratory Pelagic Resources in the Atlantic and Gulf of Mexico; Joint Amendment 10 to the Spiny Lobster Fishery Management Plan for the Gulf of Mexico and South Atlantic; Generic Annual Catch Limits/Accountability Measures Amendment for the Gulf of Mexico Fishery Management Council's Red Drum, Reef Fish, Shrimp, Coral and Coral Reefs, and Stony Crab Fishery Management Plans.

DATES: The public meetings will be held on May 2, 2011 through May 18, 2011 at fourteen locations throughout the Gulf of Mexico. The public hearings will begin at 6 p.m. and will conclude no later than 9 p.m. For specific dates, see SUPPLEMENTARY INFORMATION.

ADDRESSES: The public meetings will be held at locations listed in the SUPPLEMENTARY INFORMATION.

Council address: Gulf of Mexico Fishery Management Council, 2203 N. Lois Avenue, Suite 1100, Tampa, FL 33607.

FOR FURTHER INFORMATION CONTACT: Dr. Richard Leard, Deputy Executive Director/Senior Fishery Biologist, Dr. Steven Atran, Population Dynamics Statistician and Dr. Carrie Simmons, Fishery Biologist; Gulf of Mexico Fishery Management Council; telephone: (813) 348-1630.

SUPPLEMENTARY INFORMATION:

Coastal Migratory Pelagic Resources

The Gulf of Mexico Fishery Management Council will hold public hearings on Amendment 18 to the Fishery Management Plan for Coastal Migratory Pelagic Resources in the Atlantic and Gulf of Mexico Including Environmental Assessment, Regulatory Impact Review, and Regulatory Flexibility Act Analysis. Amendment 18 contains alternatives for actions to set Annual Catch Limits and Accountability Measures if such limits are exceeded for Gulf group king mackerel, Gulf group Spanish mackerel, and Gulf group cobia. It also contains measures to remove cero, little tunny, dolphin, and bluefish from the fishery management plan, revise the framework procedure, and separate cobia into Atlantic and Gulf migratory groups. Similar measures are being proposed for the Atlantic migratory stocks.

Spiny Lobster

Public hearings will be held on Joint Amendment 10 to the Spiny Lobster Fishery Management Plan for the Gulf of Mexico and South Atlantic. Joint Amendment 10 establishes Annual Catch Limits and Accountability Measures for Caribbean spiny lobster as required by the Magnuson-Stevens Act. This amendment includes additional actions addressing modifications to the Fishery Management Unit, updates to protocol for Enhanced Cooperative Management, regulations regarding the possession of undersized lobsters or “shorts” as attractants for the commercial trap fishery, permit requirements for tailing spiny lobster, sector allocations, limiting spiny lobster fishing areas to protect threatened staghorn and elkhorn corals, and requirements for gear marking of all spiny lobster trap lines.

Reef Fish

Amendment 32—This amendment will establish annual catch limits and annual catch targets for 2012 to 2015 for gag and for 2012 for red grouper, and contains actions to establish a rebuilding plan for gag, set recreational bag limits, size limits and closed seasons for gag/red grouper in 2012, consider a commercial gag and shallow-water grouper quota adjustment to account for dead discards, make adjustment to multi-use IFQ shares in the grouper individual fishing quota program, reduce the commercial gag size limit, modify the offshore time and areas closures, and establish gag, red grouper, and shallow-water grouper accountability measures.

Generic Amendment

Public hearings will also be held to receive comments on the Generic Annual Catch Limits/Accountability measures Amendment for the Gulf of Mexico Fishery Management Council's Red Drum, Reef Fish, Shrimp, Coral and Coral Reefs, and Stone Crab Fishery Management Plans. This amendment contains actions to delegate management of selected species to the other agencies, remove selected species from the fishery management plans, group species for purposes of setting annual catch limits and annual catch targets, establish and acceptable biological catch control rule, establish an annual catch limit/annual catch target control rule, establish a generic framework procedure for implementing management changes, establish the initial specification of annual catch limits and annual catch targets for stocks and stock groups still in need of such specification, establish the apportionment of the black grouper, yellow tail snapper, and mutton snapper stocks between the Gulf and South Atlantic Council jurisdictions, set a commercial and recreational allocation of black grouper within in the Gulf Council's jurisdiction, and establish accountability measures to keep catch levels within their annual catch limits or take corrective action if they exceed the limits.

The Public Hearings will begin at 6 p.m. and conclude at the end of public testimony or no later than 9 p.m. at the following locations:

Monday, May 2, 2011

• ACL—Hilton St. Petersburg Carillon Parkway, 950 Lake Carillon Drive, St. Petersburg, FL, telephone: (727) 540-0050;

• ACL—Clarion Hotel, 12635 South Cleveland Avenue, Fort Myers, FL 33907, telephone: (239) 936-4300;

• Mackerel—Best Western, 7921 Lamar Poole Road, Biloxi, MS 39532, telephone: (228) 875-7111;

Tuesday, May 3, 2011

• Amend 32—Hilton St. Petersburg Carillon Parkway, 950 Lake Carillon Drive, St. Petersburg, FL, telephone: (727) 540-0050;

• Amend 32—Clarion Hotel, 12635 South Cleveland Avenue, Fort Myers, FL 33907, telephone: (239) 936-4300;

• Mackerel—Fairfield Inn & Suites, 3111 Loop Road, Orange Beach, FL 36561, telephone: (251) 543-4444;

Wednesday, May 4, 2011

• Amend 32—Banana Bay Resort, 4590 Overseas Highway, Marathon, FL 33050, telephone: (305) 743-3500;

• Mackerel—Boardwalk—Royal American Beach Getaways, 9400 S. Thomas Drive, Panama City Beach, FL 32408, telephone: (850) 230-4681;

Thursday, May 5, 2011

• ACL—Banana Bay Resort, 4590 Overseas Highway, Marathon, FL 33050, telephone: (305) 743-3500;

Monday, May 9, 2011

• Mackerel/Spiny Lobster, Sirata Beach Resort, 5300 Gulf Boulevard, St. Pete Beach, FL 33706, telephone: (727) 363-5176;

• ACL/Amend 32—Renaissance Riverview Plaza, 64 South Water Street, Mobile, AL 36602;

• ACL—Boardwalk—Royal American Beach Getaways, 9400 S. Thomas Drive, Panama City Beach, FL 32408, telephone: (850) 230-4681;

Tuesday, May 10, 2011

• Amend 32/ACL—Hilton, 5400 Seawall Blvd., Galveston, TX 77551, telephone: (409) 744-1757;

• Amend 32/ACL—Best Western, 7921 Lamar Poole Road, Biloxi, MS 39532, telephone: (228) 875-7111;

• Amend 32—Boardwalk—Royal American Beach Getaways, 9400 S. Thomas Drive, Panama City Beach, FL 32408, telephone: (850) 230-4681;

Wednesday, May 11, 2011

• Amend 32—Harte Research Institute, Conference Room, 6300 Ocean Drive, Corpus Christi, TX 78412-5869, telephone: (361) 825-2000;

• Amend 32/ACL—Hilton Garden Inn, 4535 Williams Blvd., Kenner, LA 70065, telephone: (504) 712-0109;

Thursday, May 12, 2011

• ACL—Plantation Suites and Conference Center, 1909 Highway 361, Port Aransas, TX 78373, telephone: (361) 749-3866;

Monday, May 16, 2011

• Mackerel—Fisheries Research Lab, 195 Ludwig Annex, Grand Isle, LA 70358, telephone: (985) 787-2163;

Tuesday, May 17, 2011

• Mackerel—Hampton Inn, 506 West Bay Area Blvd., Webster, TX 77598, telephone: (281) 332-7952;

Wednesday, May 18, 2011

• Mackerel—Plantation Suites and Conference Center, 1909 Highway 361, Port Aransas, TX 78373, telephone: (361) 749-3866.

Copies of the documents can be obtained by calling (813) 348-1630.

Special Accommodations

These meetings are physically accessible to people with disabilities. Requests for sign language interpretation or other auxiliary aids should be directed to Kathy Pereira at the Council (see ADDRESSES) at least 5 working days prior to the meeting.

Dated: April 11, 2011.
Tracey L. Thompson,
Acting Director, Office of Sustainable Fisheries, National Marine Fisheries Service.

[FR Doc. 2011-9055 Filed 4-13-11; 8:45 am]

BILLING CODE 3510-22-P